ENVIRONMENTAL PROTECTION AGENCY

40 CFR Part 63

[FRL-6928-5]

Approval of the Clean Air Act, Section 112(l) Program and Delegation of Authority to the State of Oklahoma

AGENCY: Environmental Protection Agency (EPA).

ACTION: Proposed rule.

SUMMARY: The EPA is proposing to take direct final action on section 112(l) program approval and delegation of authority to Oklahoma. The Oklahoma Department of Environmental Quality (ODEQ) has requested delegation of certain Federal National Emission Standards for Hazardous Air Pollutants (NESHAP) found in 40 CFR parts 61 and 63.

In the “Rules and Regulations” section of this Federal Register, the EPA is approving ODEQ's program of authorities and resources to implement and enforce NESHAPs in 40 CFR parts 61 and 63 and General Provisions as they apply to these sources and the mechanism for receiving future delegation of unchanged NESHAPs as they apply to non-part 70 sources. The EPA is granting ODEQ the authority to implement and enforce specified NESHAPS adopted by reference by ODEQ. The EPA is taking direct final action without prior proposal because EPA views this as a noncontroversial action and anticipates no adverse comments. A detailed rationale for this approval is set forth in the preamble to the direct final rule. If no adverse comments are received, the EPA will not take further action on this proposed rule. If EPA receives adverse comments, the direct final rule will be withdrawn and it will not take effect. All public comments received will be addressed in a subsequent final rule based on this proposed rule. The EPA will not institute a second comment period on this action. Any parties interested in commenting must do so at this time.

DATES: Written comments must be received by February 8, 2001.

ADDRESSES: Comments must be submitted to Mr. Robert M. Todd at the Region 6 office listed below. Copies of the requests for delegation and other supporting documentation are available for public inspection at the following location: U.S. Environmental Protection Agency, Region 6, Multimedia Planning and Permitting Division (6PD), 1445 Ross Avenue, Dallas, TX 75202-2733. Anyone wanting to examine these documents should make an appointment at least two working days in advance.

FOR FURTHER INFORMATION CONTACT: Mr. Robert M. Todd, U.S. EPA, Region 6, Multimedia Planning and Permitting Division (6PD), 1445 Ross Avenue, Dallas, TX 75202-2733, (214) 665-2156.

SUPPLEMENTARY INFORMATION: This document concerns delegation of unchanged NESHAPS and Maximum Achievable Control Technology standards to ODEQ. For additional information, see the direct final rule which is published in the Rules section of this Federal Register.

Authority: This action is issued under the authority of section 112 of the Clean Air Act, as amended, 42 U.S.C. 7412.

Dated: December 21, 2000.
Lynda F. Carroll,
Acting Regional Administrator, Region 6.

[FR Doc. 01-111 Filed 1-8-01; 8:45 am]

BILLING CODE 6560-50-P